NUCLEAR REGULATORY COMMISSION

[Docket Nos. (as shown in Attachment 1), License Nos. (as shown in Attachment 1), EA-03-009]

In the Matter of All Pressurized Water Reactor Licensees; Errata to Order Modifying Licenses (Effective Immediately)

On February 11, 2003, the Nuclear Regulatory Commission (NRC) issued “Order Modifying Licenses (Effective Immediately)” (Order), EA-03-009, to all Licensees for pressurized water reactors. The Order imposes interim inspection requirements for reactor pressure vessel (RPV) heads and associated penetration nozzles.

The Order includes a provision for Licensees to request relaxations and if appropriate for the NRC to rescind or relax requirements imposed by the Order. In anticipation of numerous requests for relaxation of the Order for inspections of specific penetration nozzles, the Order specified that the NRC staff would evaluate requests for relaxation of inspection requirements for specific penetration nozzles using its procedure for proposed alternatives to Section XI of the American Society of Mechanical Engineers Boiler and Pressure Vessel Code pursuant to 10 CFR 50.55a, “Codes and standards.” To ensure that this provision may be used as intended and as it has been explained to Licensees and other stakeholders following the issuance of the Order, it is necessary to amend a procedural aspect of the Order with respect to the authority to act on requests for relaxation regarding specific nozzle penetrations. This Errata does not in any way alter any substantive provision of the Order or requirements imposed thereby on any Licensee.

Accordingly, pursuant to sections 103, 104b, 161b, 161i, 161o, 182 and 186, of the Atomic Energy Act of 1954, as amended, and the Commission's regulations in 10 CFR 2.202 and 10 CFR part 50, It is hereby Ordered, Effective Immediately, that my authority to relax or rescind any of the conditions of section IV of the Order in regard to requests for relaxation associated with specific penetration nozzles has been delegated to Project Directors or higher management positions within the Division of Licensing Project Management within the Office of Nuclear Reactor Regulation.

Since this Errata makes no substantive change to the Order, Licensees are not required to submit an answer pursuant to 10 CFR 2.202. In accordance with 10 CFR 2.202, any other persons adversely affected by this Errata may submit an answer to this Errata, and Licensees and any other person adversely affected by this Errata may request a hearing on this Errata, within twenty (20) days of the date of this Errata. Where good cause is shown, consideration will be given to extending the time to request a hearing. A request for extension of time in which to submit an answer or request a hearing must be made in writing to the Director, Office of Nuclear Reactor Regulation, U.S. Nuclear Regulatory Commission, Washington, DC 20555, and include a statement of good cause for the extension. The answer may consent to this Errata. Unless the answer consents to this Errata, the answer shall, in writing and under oath or affirmation, specifically set forth the matters of fact and law on which the Licensee or other person adversely affected relies and the reasons as to why the Errata should not have been issued. Any answer or request for a hearing shall be submitted to the Secretary, Office of the Secretary of the Commission, U.S. Nuclear Regulatory Commission, ATTN: Rulemakings and Adjudications Staff, Washington, DC 20555. Copies shall also be sent to the Director, Office of Nuclear Reactor Regulation, U.S. Nuclear Regulatory Commission, Washington, DC 20555; to the Assistant General Counsel for Materials Litigation and Enforcement at the same address; to the Regional Administrator for NRC Region I, II, III, or IV, as appropriate for the specific plant; and to the Licensee if the answer or hearing request is by a person other than the Licensee. Because of possible disruptions in delivery of mail to United States Government offices, it is requested that answers and requests for hearing be transmitted to the Secretary of the Commission either by means of facsimile transmission to (301) 415-1101 or by e-mail to hearingdocket@nrc.gov and also to the Assistant General Counsel for Materials Litigation and Enforcement either by means of facsimile transmission to (301) 415-3725 or by e-mail to OGCMailCenter@nrc.gov. If a person other than the Licensee requests a hearing, that person shall set forth with particularity the manner in which his interest is adversely affected by this Errata and shall address the criteria set forth in 10 CFR 2.714(d).¹

¹ The version of Title 10 of the Code of Federal Regulations, published January 1, 2002, inadvertently omitted the last sentence of 10 CFR 2.714 (d) and paragraphs (d)(1) and (d)(2) regarding petitions to intervene and contentions. For the complete, corrected text of 10 CFR 2.714 (d), please see 67 FR 20884, April 29, 2002.

If a hearing is requested by the Licensee or a person whose interest is adversely affected, the Commission will issue an Order designating the time and place of any hearing. If a hearing is held, the issue to be considered at such hearing shall be whether this Errata should be sustained.

Pursuant to 10 CFR 2.202(c)(2)(i), the Licensee may, in addition to demanding a hearing at the time the answer is filed or sooner, move the presiding officer to set aside the immediate effectiveness of the Errata on the ground that the Errata, including the need for immediate effectiveness, is not based on adequate evidence but on mere suspicion, unfounded allegations, or error.

In the absence of any request for hearing, or written approval of an extension of time in which to request a hearing, the provisions specified in Section II above shall be final twenty (20) days from the date of this Errata without further order or proceedings. If an extension of time for requesting a hearing has been approved, the provisions specified in Section II shall be final when the extension expires if a hearing request has not been received. An Answer or a Request for Hearing shall not Stay the Immediate Effectiveness of this Errata.

For the Nuclear Regulatory Commission.
Dated this 14th day of March 2003.
R. William Borchardt,
Acting Director, Office of Nuclear Reactor Regulation.

Facilities | Addressee
Beaver Valley Power Station, Units 1 and 2, Docket Nos. 50-334 and 50-412, License Nos. DPR-66 and NPF-73 | Mr. Mark B. Bezilla, Vice President, FirstEnergy Nuclear Operating Company, Beaver Valley Power Station, Post Office Box 4, Shippingport, PA 15077.
Calvert Cliffs Nuclear Power Plant, Units 1 and 2, Docket Nos. 50-317 and 50-318, License Nos. DPR-53 and DPR-69 | Mr. P. E. Katz, Vice President, Calvert Cliffs Nuclear Power Plant, Inc., Calvert Cliffs Nuclear Power Plant, 1650 Calvert Cliffs Parkway, Lusby, MD 20657-4702.
R. E. Ginna Nuclear Power Plant, Docket No. 50-244, License No. DPR-18 | Dr. Robert C. Mecredy, Vice President, Nuclear Operations, Rochester Gas and Electric Corporation, 89 East Avenue, Rochester, NY 14649.
Indian Point Nuclear Generating Station, Units 2 and 3, Docket Nos. 50-247 and 50-286, License Nos. DPR-26 and DPR-64 | Mr. Michael R. Kansler, Senior Vice President and Chief Operating Officer, Entergy Nuclear Operations, Inc., 440 Hamilton Avenue, White Plains, NY 10601.
Millstone Power Station, Units 2 and 3, Docket Nos. 50-336 and 50-423, License Nos. DPR-65 and NPF-49 | Mr. J. A. Price, Site Vice President—Millstone, Dominion Nuclear Connecticut, Inc., c/o Mr. David W. Dodson, Rope Ferry Road, Waterford, CT 06385.
Salem Nuclear Generating Station, Units 1 and 2, Docket Nos. 50-272 and 50-311, License Nos. DPR-70 and DPR-75 | Mr. Harold W. Keiser, Chief Nuclear Officer & President, PSEG Nuclear LLC—X04, Post Office Box 236, Hancocks Bridge, NJ 08038.
Seabrook Station, Unit 1, Docket No. 50-443, License No. NPF-86 | Mr. Mark E. Warner, Site Vice President, c/o James M. Peschel, Seabrook Station, PO Box 300, Seabrook, NH 03874.
Three Mile Island Nuclear Station, Unit 1, Docket No. 50-289, License No. DPR-50 | Mr. John L. Skolds, Chairman and Chief Executive Officer, AmerGen Energy Company, LLC, 4300 Winfield Road, Warrenville, IL 60555.
Catawba Nuclear Station, Units 1 and 2, Docket Nos. 50-413 and 50-414, License Nos. NPF-35 and NPF-52 | Mr. G. R. Peterson, Site Vice President, Catawba Nuclear Station, Duke Energy Corporation, 4800 Concord Road, York, South Carolina 29745-9635.
Crystal River Nuclear Power Plant, Docket No. 50-302, License No. DPR-72 | Mr. Dale E. Young, Vice President, Crystal River Nuclear Plant (NA1B), ATTN: Supervisor, Licensing & Regulatory Programs, 15760 W. Power Line Street, Crystal River, Florida 34428-6708.
Joseph M. Farley Nuclear Plant, Units 1 and 2, Docket Nos. 50-348 and 50-364, License Nos. NPF-2 and NPF-8 | Mr. J. B. Beasley, Vice President—Farley Project, Southern Nuclear Operating Company, Inc., Post Office Box 1295, Birmingham, Alabama 35201-1295.
Shearon Harris Nuclear Power Plant, Unit 1, Docket No. 50-400, License No. NPF-63 | Mr. James Scarola, Vice President, Shearon Harris Nuclear Power Plant, Carolina Power & Light Company, Post Office Box 165, Mail Code: Zone 1, New Hill, North Carolina 27562-0165.
William B. McGuire Nuclear Station, Units 1 and 2, Docket Nos. 50-369 and 50-370, License Nos. NPF-9 and NPF-17 | Mr. Dhiaa Jamil, Vice President, McGuire Site, Duke Energy Corporation, 12700 Hagers Ferry Road, Huntersville, NC 28078-8985.
North Anna Power Station, Units 1 and 2, Docket Nos. 50-338 and 50-339, License Nos. NPF-4 and NPF-7 Surry Power Station, Units 1 and 2, Docket Nos. 50-280 and 50-281, License Nos. DPR-32 and DPR-37 | Mr. David A. Christian, Senior Vice President—Nuclear, Virginia Electric and Power Company, 5000 Dominion Blvd., Glen Allen, Virginia 23060.
Oconee Nuclear Station, Units 1, 2 and 3, Docket Nos. 50-269, 50-270 and 50-287, License Nos. DPR-38, DPR-47 and DPR-55 | Mr. Ronald A. Jones, Vice President, Oconee Site, Duke Energy Corporation, 7800 Rochester Highway, Seneca, SC 29672.
H. B. Robinson Steam Electric Plant, Unit 2, Docket No. 50-261, License No. DPR-23 | Mr. J. W. Moyer, Vice President, Carolina Power & Light Company, H. B. Robinson Steam Electric Plant Unit No. 2, 3581 West Entrance Road, Hartsville, South Carolina 29550.
St. Lucie Nuclear Plant, Units 1 and 2, Docket Nos. 50-335 and 50-389, License Nos. DPR-67 and NPF-16, Turkey Point Nuclear Generating Station, Units 3 and 4, Docket Nos. 50-250 and 50-251, License Nos. DPR-31 and DPR-41 | Mr. J. A. Stall, Senior Vice President, Nuclear and Chief Nuclear Officer, Florida Power and Light Company, P.O. Box 14000, Juno Beach, Florida 33408-0420.
Sequoyah Nuclear Plant, Units 1 and 2, Docket Nos. 50-327 and 50-328, License Nos. DPR-77 and DPR-79 Watts Bar Nuclear Plant, Unit 1, Docket No. 50-390, License No. NPF-90 | Mr. J. A. Scalice, Chief Nuclear Officer and Executive Vice President, Tennessee Valley Authority, 6A Lookout Place, 1101 Market Street, Chattanooga, Tennessee 37402-2801.
Virgil C. Summer Nuclear Station, Unit 1, Docket No. 50-395, License No. NPF-12 | Mr. Stephen A. Byrne, Senior Vice President, Nuclear Operations, South Carolina Electric & Gas Company, Virgil C. Summer Nuclear Station, Post Office Box 88, Jenkinsville, South Carolina 29065.
Vogtle Electric Generating Plant, Units 1 and 2, Docket Nos. 50-424 and 50-425, License Nos. NPF-68 and NPF-81 | Mr. J. T. Gasser, Vice President—Vogtle Project, Southern Nuclear Operating Company, Inc., Post Office Box 1295, Birmingham, Alabama 35201-1295.
Braidwood Station, Units 1 and 2, Docket Nos. STN 50-456 and STN 50-457, License Nos. NPF-72 and NPF-77 Byron Station, Units 1 and 2, Docket Nos. STN 50-454 and STN 50-455, License Nos. NPF-37 and NPF-66 | Mr. John L. Skolds, President, Exelon Nuclear, Exelon Generation Company, LLC, 4300 Winfield Road, Warrenville, IL 60555.
Donald C. Cook Nuclear Plant, Units 1 and 2, Docket Nos. 50-315 and 50-316, License Nos. DPR-58 and DPR-74 | Mr. Robert P. Powers, Senior Vice President, Indiana Michigan Power Company, Nuclear Generation Group, 500 Circle Drive, Buchanan, MI 49107.
Davis-Besse Nuclear Power Station, Unit 1, Docket No. 50-346, License No. NPF-3 | Mr. Lew W. Myers, Chief Operating Officer, FirstEnergy Nuclear Operating Company, Davis-Besse Nuclear Power Station, 5501 North State Route 2, Oak Harbor, OH 43449-9760.
Kewaunee Nuclear Power Plant, Docket No. 50-305, License No. DPR-43 | Mr. Thomas Coutu, Site Vice President and Interim Plant Manager, Kewaunee Nuclear Power Plant, Nuclear Management Company, LLC, N490 State Highway 42, Kewaunee, WI 54216.
Palisades Plant, Docket No. 50-255, License No. DPR-20 | Mr. Douglas E. Cooper, Site Vice President, Palisades Nuclear Plant, 27780 Blue Star Memorial Highway, Covert, MI 49043.
Point Beach Nuclear Plant, Units 1 and 2, Docket Nos. 50-266 and 50-301, License Nos. DPR-24 and DPR-27 | Mr. Fred J. Cayia, Site Vice President, Point Beach Nuclear Plant, Nuclear Management Company, LLC, 6610 Nuclear Road, Two Rivers, WI 54241.
Prairie Island Nuclear Generating Plant, Units 1 and 2, Docket Nos. 50-282 and 50-306, License Nos. DPR-42 and DPR-60 | Mr. Mano Nazar, Site Vice President, Prairie Island Nuclear Generating Plant, Nuclear Management Company, LLC, 1717 Wakonade Drive East, Welch, MN 55089.
Arkansas Nuclear One, Units 1 and 2, Docket Nos. 50-313 and 50-368, License Nos. DPR-51 and NPF-6 | Mr. Craig G. Anderson, Vice President, Operations ANO, Entergy Operations, Inc., 1448 S. R. 333, Russellville, AR 72801.
Callaway Plant, Unit 1, Docket No. 50-483, License No. NPF-30 | Mr. Garry L. Randolph, Vice President and Chief Nuclear Officer, Union Electric Company, Post Office Box 620, Fulton, MO 65251.
Comanche Peak Steam Electric Station, Units 1 and 2, Docket Nos. 50-445 and 50-446, License Nos. NPF-87 and NPF-89 | Mr. C. Lance Terry, Senior Vice President & Principal Nuclear Officer, TXU Energy, ATTN: Regulatory Affairs, P. O. Box 1002, Glen Rose, TX 76043.
Diablo Canyon Nuclear Power Plant, Units 1 and 2, Docket Nos. 50-275 and 50-323, License Nos. DPR-80 and DPR-82 | Mr. Gregory M. Rueger, Senior Vice President, Generation and Chief Nuclear Officer, Pacific Gas and Electric Company, Diablo Canyon Nuclear Power Plant, P. O. Box 3, Avila Beach, CA 93424.
Fort Calhoun Station, Unit 1, Docket No. 50-285, License No. DPR-40 | Mr. R. T. Ridenoure, Division Manager—Nuclear Operations, Omaha Public Power District, Fort Calhoun Station FC-2-4 Adm., Post Office Box 550, Fort Calhoun, NE 68023-0550.
Palo Verde Nuclear Generating Station, Units 1, 2 and 3, Docket Nos. STN 50-528, STN 50-529 and STN 50-530, License Nos. NPF-41, NPF-51 and NPF-74 | Mr. Gregg R. Overbeck, Senior Vice President, Nuclear, Arizona Public Service Company, P. O. Box 52034, Phoenix, AZ 85072-2034.
San Onofre Nuclear Station, Units 2 and 3, Docket Nos. 50-361 and 50-362, License Nos. NPF-10 and NPF-15 | Mr. Harold B. Ray, Executive Vice President, Southern California Edison Company, San Onofre Nuclear Generating Station, P.O. Box 128, San Clemente, CA 92674-0128.
South Texas Project Electric Generating, Station, Units 1 and 2, Docket Nos. 50-498 and 50-499, License Nos. NPF-76 and NPF-80 | Mr. William T. Cottle, President and Chief Executive Officer, STP Nuclear Operating Company, South Texas Project Electric Generating Station, P. O. Box 289, Wadsworth, TX 77483.
Waterford Steam Electric Generating Station, Unit 3, Docket No. 50-382, License No. NPF-38 | Mr. Joseph E. Venable, Vice President Operations, Entergy Operations, Inc., 17265 River Road, Killona, LA 70066-0751.
Wolf Creek Generating Station, Unit 1, Docket No. 50-482, License No. NPF-42 | Mr. Rick A. Muench, President and Chief Executive Officer, Wolf Creek Nuclear Operating Corporation, Post Office Box 411, Burlington, KS 66839.

[FR Doc. 03-6807 Filed 3-20-03; 8:45 am]

BILLING CODE 7590-01-P